DEPARTMENT OF AGRICULTURE

Rural Housing Service

Notice for Requests for Proposals for Guaranteed Loans Under the Section 538 Guaranteed Rural Rental Housing Program (GRRHP) for Fiscal Year 2005

AGENCY: Rural Housing Service, USDA.

ACTION: Notice.

SUMMARY: This is a request for proposals for guaranteed loans under the section 538 Guaranteed Rural Rental Housing Program (GRRHP) pursuant to 7 CFR 3565.4 for Fiscal Year (FY) 2005 subject to the availability of funding. FY 2005 funding for the section 538 program is $99.2 million. Applicants will submit proposals in the form of “RESPONSES.” The commitment of program dollars will be made to applicants of selected responses that have fulfilled the necessary requirements for obligation. The following paragraphs outline the timeframes, eligibility requirements, lender responsibilities, and the overall response and application processes.

The GRRHP operates under 7 CFR part 3565. The GRRHP Origination and Servicing Handbook (HB-1-3565) is available to provide lenders and the general public with guidance on program administration. HB-1-3565, which contains a copy of 7 CFR part 3565 in Appendix 1, can be found at the Rural Development Instructions Web site address http://www.rurdev.usda.gov/regs.

Eligible lenders are invited to submit responses for the development of affordable rental housing to serve rural America. The Rural Housing Service (RHS) will review responses submitted by eligible lenders, on the lender's letterhead, and signed by both the prospective borrower and lender. Although a complete application is not required in response to this Notice, eligible lenders may submit a complete application concurrently with the response. The submission of a complete application will not affect the scoring process.

DATES: The RHS will review and score all responses received through June 13, 2005. Those responses that are selected that subsequently submit complete applications and meet all Federal environmental requirements will receive commitments to the extent an appropriation act provides funding for GRRHP for FY 2005 until all funds are expended. If any FY 2005 funds have not been exhausted by June 13, 2005, the Agency will continue reviewing and scoring NOFA responses every month after June 13, 2005. Each month after June 13, 2005, the Agency will select proposals with a threshold score of 25 or higher with priority being given based on score rank until all funds are expended. Priority for the selection of proposals that meet the threshold score of 25 will be given to the highest scoring proposals. A Notice will be placed in the Federal Register when all funds are committed for FY 2005.

Eligible lenders intending to mail a response or application must provide sufficient time to permit delivery to the Submission Address on or before the closing deadline date and time. Acceptance by a U.S. Post Office or private mailer does not constitute delivery. Postage due responses and applications will not be accepted.

Submission Address: Eligible lenders will send responses to the Multi-Family Housing Director in the State Office where the project will be located. Rural Development State Offices, their addresses, telephone numbers, and person to contact follows:

Note: Telephone numbers listed are not toll-free.

Alabama State Office

Suite 601, Sterling Centre

4121 Carmichael Road

Montgomery, AL 36106-3683

(334) 279-3455

TDD (334) 279-3495

James B. Harris

Alaska State Office

800 West Evergreen, Suite 201

Palmer, AK 99645

(907) 761-7740

TDD (907) 761-8905

Debbie Andrys

Arizona State Office

Phoenix Courthouse and Federal Building

230 North First Ave., Suite 206

Phoenix, AZ 85003-1706

(602) 280-8765

TDD (602) 280-8706

Johnna Vargas

Arkansas State Office

700 W. Capitol Ave., Room 3416

Little Rock, AR 72201-3225

(501) 301-3250

TDD (501) 301-3063

Cathy Jones

California State Office

430 G Street, #4169

Davis, CA 95616-4169

(530) 792-5830

TDD (530) 792-5848

Jeff Deiss

Colorado State Office

655 Parfet Street, Room E100

Lakewood, CO 80215

(720) 544-2923

TDD (800) 659-2656

Mary Summerfield

Connecticut

Served by Massachusetts State Office

Delaware and Maryland State Office

4607 South Dupont Highway

PO Box 400

Camden, DE 19934-9998

(302) 697-4353

TDD (302) 697-4303

Pat Baker

Florida & Virgin Islands State Office

4440 N.W. 25th Place

Gainesville, FL 32606-6563

(352) 338-3465

TDD (352) 338-3499

Elizabeth M. Whitaker

Georgia State Office

Stephens Federal Building

355 E. Hancock Avenue

Athens, GA 30601-2768

(706) 546-2164

TDD (706) 546-2034

Wayne Rogers

Hawaii State Office

(Services all Hawaii, American Samoa Guam, and Western Pacific)

Room 311, Federal Building

154 Waianuenue Avenue

Hilo, HI 96720

(808) 933-8305

TDD (808) 933-8321

Jack Mahan

Idaho State Office

Suite A1

9173 West Barnes Dr.

Boise, ID 83709

(208) 378-5630

TDD (208) 378-5644

LaDonn McElligott

Illinois State Office

2118 West Park Court, Suite A

Champaign, IL 61821-2986

(217) 403-6222

TDD (217) 403-6240

Barry L. Ramsey

Indiana State Office

5975 Lakeside Boulevard

Indianapolis, IN 46278

(317) 290-3100 (ext. 423)

TDD (317) 290-3343

John Young

Iowa State Office

210 Walnut Street Room 873

Des Moines, IA 50309

(515) 284-4666

TDD (515) 284-4858

Sue Wilhite

Kansas State Office

1303 SW. First American Place, Suite 100

Topeka, KS 66604-4040

(785) 271-2721

TDD (785) 271-2767

Virginia M. Hammersmith

Kentucky State Office

771 Corporate Drive, Suite 200

Lexington, KY 40503

(859) 224-7325

TDD (859) 224-7422

Paul Higgins

Louisiana State Office

3727 Government Street

Alexandria, LA 71302

(318) 473-7962

TDD (318) 473-7655

Yvonne R. Emerson

Maine State Office

967 Illinois Ave., Suite 4

PO Box 405, Bangor, ME 04402-0405

(207) 990-9110

TDD (207) 942-7331

Bob Nadeau

Maryland

Served by Delaware State Office

Massachusetts, Connecticut, & Rhode Island State Office

451 West Street, Amherst, MA 01002

(413) 253-4333

TDD (413) 253-4590

Donald Colburn

Michigan State Office

3001 Coolidge Road, Suite 200

East Lansing, MI 48823

(517) 324-5192

TDD (517) 337-6795

Ghulam R. Simbal

Minnesota State Office

375 Jackson Street Building, Suite 410

St. Paul, MN 55101-1853

(651) 602-7782

TDD (651) 602-7830

Peter Lundquist

Mississippi State Office

Federal Building, Suite 831

100 W. Capitol Street

Jackson, MS 39269

(601) 965-4325

TDD (601) 965-5850

Darnella Smith-Murray

Missouri State Office

601 Business Loop 70 West

Parkade Center, Suite 235

Columbia, MO 65203

(573) 876-0990

TDD (573) 876-9480

Colleen James

Montana State Office

900 Technology Blvd. Suite B

Bozeman, MT 59715

(406) 585-2565

TDD (406) 585-2562

Deborah Chorlton

Nebraska State Office

Federal Building, Room 152

100 Centennial Mall N

Lincoln, NE 68508

(402) 437-5594

TDD (402) 437-5093

Phil Willnerd

Nevada State Office

1390 South Curry Street

Carson City, NV 89703-9910

(775) 887-1222 (ext. 25)

TDD (775) 885-0633

Angilla Denton

New Hampshire State Office

Concord Center

Suite 218, Box 317

10 Ferry Street

Concord, NH 03301-5004

(603) 223-6046

TDD (603) 229-0536

Jim Fowler

New Jersey State Office

5th Floor North Suite 500

8000 Midlantic Dr.

Mt. Laurel, NJ 08054

(856) 787-7740

TDD (856) 787-7784

George Hyatt, Jr.

New Mexico State Office

6200 Jefferson St., NE., Room 255

Albuquerque, NM 87109

(505) 761-4944

TDD (505) 761-4938

Carmen N. Lopez

New York State Office

The Galleries of Syracuse

441 S. Salina Street, Suite 357 5th Floor

Syracuse, NY 13202

(315) 477-6419

TDD (315) 477-6447

George N. Von Pless

North Carolina State Office

4405 Bland Road, Suite 260

Raleigh, NC 27609

(919) 873-2066

TDD (919) 873-2003

Terry Strole

North Dakota State Office

Federal Building, Room 208

220 East Rosser

PO Box 1737

Bismarck, ND 58502

(701) 530-2049

TDD (701) 530-2113

Kathy Lake

Ohio State Office

Federal Building, Room 507

200 North High Street

Columbus, OH 43215-2477

(614) 255-2418

TDD (614) 255-2554

Melodie Taylor-Ward

Oklahoma State Office

100 USDA, Suite 108

Stillwater, OK 74074-2654

(405) 742-1070

TDD (405) 742-1007

Ivan S. Graves

Oregon State Office

101 SW. Main, Suite 1410

Portland, OR 97204-3222

(503) 414-3325

TDD (503) 414-3387

Margo Donelin

Pennsylvania State Office

One Credit Union Place, Suite 330

Harrisburg, PA 17110-2996

(717) 237-2281

TDD (717) 237-2261

Martha Eberhart

Puerto Rico State Office

654 Munoz Rivera Avenue

IBM Plaza, Suite 601

Hato Rey, PR 00918

(787) 766-5095 (ext. 249)

TDD (787) 766-5332

Lourdes Colon

Rhode Island

Served by Massachusetts State Office

South Carolina State Office

Strom Thurmond Federal Building

1835 Assembly Street, Room 1007

Columbia, SC 29201

(803) 253-3432

TDD (803) 765-5697

Larry D. Floyd

South Dakota State Office

Federal Building, Room 210

200 Fourth Street, SW.

Huron, SD 57350

(605) 352-1132

TDD (605) 352-1147

Roger Hazuka or Pam Reilly

Tennessee State Office

Suite 300

3322 West End Avenue

Nashville, TN 37203-1084

(615) 783-1375

TDD (615) 783-1397

G. Benson Lasater

Texas State Office

Federal Building, Suite 102

101 South Main

Temple, TX 76501

(254) 742-9758

TDD (254) 742-9712

Julie Hayes

Utah State Office

Wallace F. Bennett Federal Building

125 S. State Street, Room 4311

Salt Lake City, UT 84147-0350

(801) 524-4325

TDD (801) 524-3309

Janice Kocher

Vermont State Office

City Center, 3rd Floor

89 Main Street

Montpelier, VT 05602

(802) 828-6021

TDD (802) 223-6365

Heidi Setien

Virgin Islands

Served by Florida State Office

Virginia State Office

Culpeper Building, Suite 238

1606 Santa Rosa Road

Richmond, VA 23229

(804) 287-1596

TDD (804) 287-1753

CJ Michels

Washington State Office

1835 Black Lake Blvd., Suite B

Olympia, WA 98512

(360) 704-7730

TDD (360) 704-7760

Robert Lund

Western Pacific Territories

Served by Hawaii State Office

West Virginia State Office

Federal Building

75 High Street, Room 320

Morgantown, WV 26505-7500

(304) 284-4889

TDD (304) 284-4836

Craig St. Clair

Wisconsin State Office

4949 Kirschling Court

Stevens Point, WI 54481

(715) 345-7615 (ext. 151)

TDD (715) 345-7614

Peter Kohnen

Wyoming State Office

PO Box 11005

Casper, WY 82602

(307) 233-6715

TDD (307) 233-6733

Jack Hyde

FOR FURTHER INFORMATION CONTACT: Arlene Nunes, Senior Loan Specialist, Guaranteed Loans, Multi-Family Housing Processing Division, U.S. Department of Agriculture, South Agriculture Building, Room 1271, STOP 0781, 1400 Independence Avenue, SW., Washington, DC 20250-0781. E-mail: arlene.nunes@usda.gov. Telephone: (202) 401-2307. This number is not toll-free. Hearing or speech-impaired persons may access that number by calling the Federal Information Relay Service toll-free at (800) 877-8339.

Eligiblity of Prior Year Selected Notice of Funding Availability (NOFA) Responses: NOFA Responses selected, but not yet funded, in prior years, are eligible for FY 2005 program dollars. Prior year NOFA responses selected by RHS may compete for FY 2005 funding without completing a FY 2005 response. These NOFA responses are not subject to the scoring process. RHS will commit and obligate funds on a “first-come first-served basis” only to lenders that submit a complete application for prior year selected NOFA response, including all Federal environmental documents required by 7 CFR part 1940, subpart G, a Form RD 3565-1, and the $2,500 application fee. FY 2005 will be the last fiscal year that selected prior year NOFA responses will be considered for funding. If prior year selections do not develop into a complete application and funds are not obligated to the subject project, the prior year NOFA response selection will be automatically cancelled. A new NOFA response for the project can be submitted subject to the conditions of the then current NOFA year.

General Program Information

Program Purpose: The section 538 GRRHP is designed to increase the supply of affordable multi-family housing through partnerships between the RHS and major lending sources, as well as state and local housing finance agencies and bond issuers.

Responses Must Be Submitted by: The Agency will only accept responses from GRRHP eligible or approved lenders as described in 7 CFR 3565.102 and 3565.103 respectively.

Qualifying Properties: Qualifying properties include new construction for multi-family housing units or acquisition of existing structures with a minimum per unit rehabilitation expenditure requirement in accordance with 7 CFR 3565.252. The portion of guaranteed funds for acquisition with rehabilitation is limited to 25 percent of the program authority.

Eligible Financing Sources: Any form of Federal, state, and conventional sources of financing can be used in conjunction with the loan guarantee, including Home Investment Partnership Program (HOME) grant funds, tax exempt bonds, and low income housing tax credits.

Maximum Guarantee: The maximum guarantee for a permanent loan will be 90 percent of the unpaid balance and interest on the loan. The maximum guarantee on a construction loan will be 90 percent of the work in place, which have credit enhancements, or up to 90 percent of the amount actually advanced by the lender, whichever is less.

Reimbursement of Losses: Any losses will be split on a pro-rata basis between the lender and the RHS from the first dollar lost.

Interest Rate: RHS will accept the best rate negotiated between the lender and prospective borrower. The lender is not required to provide the interest rate in the response. The interest rate must be fixed over the term of the loan.

Interest Credit: RHS will provide additional financial assistance for at least 20 percent of the loans by providing an interest credit to reduce the interest rate to the Long Term Monthly Applicable Federal Rate (AFR) subject to appropriations. The interest credit will be paid following the January 1st of the year in which the project has reached occupancy standards, and the permanent loan note guarantee is issued. If 20 percent of the loans have not received interest credit by June 13, 2005, then RHS will award interest credit to those loans that initially requested interest credit and have the highest interest credit priority score until at least 20 percent of the loans have received interest credit. Requests for interest credit must be made in the response. When interest credit assistance is requested, lenders must state in the response the maximum basis points above the Long Term Monthly AFR that will be used to calculate the interest rate. Priority points will be given for basis points equal to or less than 250 above the Long Term Monthly AFR. Lenders should use the Long Term Monthly AFR in effect at the closing of the lender's loan. Lenders are not permitted to make requests for interest credit after the selection process has taken place.

Due to limited funding and in order to distribute interest credit assistance as broadly as possible, the Agency has decided to limit the interest credit to $1.5 million per loan. For example, if an eligible request were made for interest credit on a loan of $2.5 million, up to $1.5 million of the loan would receive interest credit. Interest credit is not available for construction loans. Interest credit is only available for permanent loans. Lenders with projects that are viable with or without interest credit are encouraged to submit a response reflecting financial and market feasibility under both funding options. Responses requesting consideration under both options will not affect interest credit selection. However, once the interest credit funds are exhausted, only those responses requesting consideration under both funding options or the Non-Interest Credit option will be further considered.

Due to limited interest credit funds and the responsibility of RHS to target and give priority to rural areas most in need, responses requesting interest credit must score a minimum of 55 points under the criteria established in this NOFA. In the event of ties, selection between responses will be by lot.

Surcharges for Guarantee of Construction Advances: There is no surcharge for the guarantee of construction advances for FY 2005.

Program Fees for FY 2005: The following information stipulates the program fees.

(1) There is an initial guarantee fee of 1 percent of the total guarantee amount, which will be due when the loan guarantee is issued. In the case of a combination construction and permanent loan guarantee, the 1 percent initial fee will be paid when the construction loan note guarantee is issued. For purposes of calculating this fee, the guarantee amount is the product of the percentage of the guarantee times the initial principal amount of the guaranteed loan.

(2) There is an annual renewal fee of 0.5 percent of the outstanding principal and interest of the loan. This fee will be collected annually on January 1st of each calendar year.

(3) There is no fee for site assessment and market analysis or preliminary feasibility in FY 2005.

(4) There is a non-refundable application fee of $2,500 when the application is submitted.

(5) There is a flat fee of $500 when a lender requests RHS to extend the term of a guarantee commitment.

(6) There is a flat fee of $500 when a lender requests RHS to reopen an application when a commitment has expired.

(7) There is a flat fee of $1,250 when a lender requests RHS to approve the transfer of property and assumption of the loan to an eligible prospective borrower.

(8) There is no lender application fee for lender approval in FY 2005.

Eligible Lenders: An eligible lender for the section 538 GRRHP as required by 7 CFR 3565.102 must be a licensed business entity or Housing Finance Agency (HFA) in good standing in the state or states where it conducts business. Lender eligibility requirements are contained in 7 CFR 3565.102. Below is a list of some of the eligible lender criteria under 7 CFR 3565.102:

(1) Licensed business entity that meets the qualifications and has the approval of the Secretary of Housing and Urban Development (HUD) to make multi-family housing loans that are insured under the National Housing Act. A complete list of HUD approved lenders can be found on the HUD Web site at http://www.hud.gov.

(2) A licensed business entity that meets the qualifications and has the approval of the Ginnie Mae or Freddie Mac or Fannie Mae corporations to make multi-family housing loans that are sold to the same corporations. A complete list of Freddie Mac approved lenders can be found in Freddie Mac's Web site at http://www.freddiemac.com. Fannie Mae approved lenders are found at http://www.fanniemae.com. For a list of Ginnie Mae issuers, contact Ginnie Mae at http://www.ginniemae.gov.

(3) A state or local HFA with a top-tier rating from Moody's or Standard & Poors, or member of the Federal Home Loan Bank system, and the demonstrated ability to underwrite, originate, process, close, service, manage, and dispose of multi-family housing loans in a prudent manner.

(4) Be a GRRHP approved lender, defined as an entity with an executed multi-family housing Lender's Agreement with RHS.

(5) Lenders that can demonstrate the capacity to underwrite, originate, process, close, service, manage, and dispose of multi-family housing loans in a prudent manner. In order to be approved the lender will have to have an acceptable level of financial soundness as determined by a lender rating service. The submission of materials demonstrating capacity will be required if the lender's response is selected. Lenders who are otherwise ineligible may become eligible if they maintain a correspondent relationship with an eligible lender that does have the capacity to underwrite, originate, process, close, service, manage, and dispose of multi-family housing loans in a prudent manner. In this case, the eligible lender must submit the response and application. All contractual and legal documentation will be signed between RHS and the lender that submitted the response and application.

GRRHP Lender Approval Application: Lenders whose responses are selected will be notified by the RHS to submit a request for GRRHP lender approval application within 30 days of notification. Lenders that have received GRRHP lender approval in the past and are in good standing do not need to reapply for GRRHP lender approval.

Submission of Documentation for GRRHP Lender Approval: All lenders that have not yet received GRRHP lender approval must submit a complete lender application to: Director, Multi-Family Housing Processing Division, Rural Housing Service, U.S. Department of Agriculture, Room 1263, STOP 0781, 1400 Independence Avenue, SW., Washington, DC 20250-0781. Lender applications must be identified as “Section 538 Guaranteed Rural Rental Housing Program” on the envelope.

As RHS does not have a formal application form, a complete application consists of a cover letter requesting GRRHP lender approval and the following documentation:

(1) Request for GRRHP lender approval on the lender's letterhead;

(2) Lenders who are HUD, Ginnie Mae, Freddie Mac or Fannie Mae multi-family approved lenders are required to show evidence of this status, such as a copy of a letter designating the distinction;

(3) The lender's Loan Origination, Loan Servicing and Portfolio Management Handbooks. These handbooks should detail the lender's policies and procedures on loan origination through termination for multi-family loans;

(4) Portfolio performance data;

(5) Copies of standard documents that will be used in processing GRRHP loans;

(6) Resumes and qualifications of key personnel that will be involved in the GRRHP;

(7) Identification of standards and processes that deviate from those outlined in the GRRHP Origination and Servicing Handbook (HB-1-3565) found at http://rdinit.usda.gov/regs;

(8) A copy of the most recent audited financial statements;

(9) Lender specific information including: (a) Legal name and address, (b) list of principal officers and their responsibilities, (c) certification that the officers and principals of the lender have not been debarred or suspended from Federal programs, (d) Form AD 1047, (e) certification that the lender is not in default or delinquent on any Federal debt or loan, or possesses as an outstanding finding of deficiency in a federal housing program, and (f) certification of the lender's credit rating; and

(10) Documentation on bonding and insurance.

GRRHP Lender Approval Requirements: Lenders who request GRRHP lender approval must meet the standards stipulated in the 7 CFR 3565.103.

Lender Responsibilities: Lenders will be responsible for the full range of loan origination, underwriting, management, servicing, compliance issues and property disposition activities associated with their projects. The lender will be expected to provide guidance to the prospective borrower on the RHS requirements during the application phase. Once the guarantee is issued, the lender is expected to service each loan it underwrites or contract these services to another capable entity.

Discussion of Notice

Content of Notice Responses: All responses require lender information and project specific data. Incomplete responses will not be considered for funding. Lenders will be notified of incomplete responses. Complete responses are to include a signed cover letter from the lender on the lender's letterhead and the following information:

(1) Lender certification—The lender must certify that the lender will make a loan to the prospective borrower for the proposed project, under specified terms and conditions subject to the issuance of the GRRHP guarantee. Lender certification must be on the lender's letterhead and signed by both the lender and the prospective borrower.

(2) Project specific data—The lender must submit the project specific data below on the lender's letterhead, signed by both the lender and the prospective borrower.

Lender Name | Insert the lender's name.
Lender Tax ID # | Insert lender's tax ID #.
Lender Contact Name | Name of the lender contact for loan.
Mailing Address | Lender's complete mailing address.
Phone # | Phone # for lender contact.
Fax # | Insert lender's fax #.
E-mail Address | Insert lender contact e-mail address.
Borrower Name and Organization Type | State whether borrower is a Limited Partnership, Corporation, Indian Tribe, etc.
Tax Classification Type | State whether borrower is for profit, not for profit, etc.
Borrower Tax ID # | Insert borrower's tax ID #.
Borrower Address, including County | Insert borrower's address and county.
Borrower Phone # | Insert borrower's phone #.
Principal or Key Member for the Borrower | Insert name and title.
Borrower Information and Statement of Housing Development Experience | Attach relevant information.
New Construction or Acquisition with Rehabilitation | State whether the project is new construction or acquisition with rehabilitation.
Project Location Town or City | Town or city in which the project is located.
Project County | County in which the project is located.
Project State | State in which the project is located.
Project Zip Code | Insert zip code.
Project Congressional District | Congressional District for project location.
Project Name | Insert project name.
Project Type | Family, senior (all residents 55 years or older), or mixed.
Property Description and Proposed Development Schedule | Provide as an attachment.
Total Project Development Cost | Enter amount for total project.
# of Units | Insert the # of units in the project.
Ratio of 3-5 bedroom units to total units | Insert percentage of 3-5 bedroom units to total units.
Cost Per Unit | Total development cost divided by # of units.
Rent | Proposed rent structure.
Median Income for Community | Provide median income for the community.
Evidence of Site Control | Attach relevant information.
Description of Any Environmental Issues | Attach relevant information.
Loan Amount | Insert the loan amount.
Interest Credit (IC) | Is interest credit requested for this loan? (Yes or No)
Basis Points over the Long Term Monthly Applicable Federal Rate (for interest credit requests only) | Lenders seeking interest credit must provide the maximum basis points above the Long Term Monthly AFR that will be used to calculate the interest rate. Priority points will be given for basis points equal to or less than 250 above the Long Term Monthly AFR. Lenders should use the Long Term Monthly AFR in effect at the closing of the lender's loan.
If Above Is Yes, Should Proposal Be Considered Under Non-IC Selection if IC Funds Are Exhausted? | If Yes, proposal must show financial feasibility for Non-IC consideration.
Borrower's Proposed Equity | Insert amount.
Tax Credits | Will the project be allocated tax credits? How much? What is the estimated value of the tax credits awarded?
Other Sources of Funds | List all funding sources other than tax credits and amounts for each source.
Loan to Total Development Cost | Guaranteed loan divided by the total development costs of project.
Debt Coverage Ratio | Net Operating Income divided by debt service payments.
Percentage of Guarantee | Percentage guarantee requested.
Collateral | Attach relevant information.
Empowerment Zone(EZ) or Enterprise Community(EC), Colonia or Tribal Lands | Yes or No. Is the project in a recognized EZ or EC, Colonia or on an Indian Reservation?
Population | Must be within the 20,000 population limit set for the program.
Is a Guarantee for Construction Being Requested? Are Advances Being Requested? | State yes or no. The Agency will guarantee construction advances, only as part of a combination construction and permanent loan.
Loan Term | Up to a 40-year amortized loan. Balloon mortgages with a minimum 25-year term are eligible.

Scoring of Priority Criteria for Selection of Projects: All 2005 NOFA responses will be scored based on the criteria set forth below to establish their priority for obligation of funds. Priority criteria include population size, median income, loan to development cost ratio, highest percentage of 3-5 bedroom units to total units, and location in Empowerment Zones/Enterprise Communities or on Tribal Land. Prior to June 13, 2005, projects with an overall score of 25 points and a loan to development cost ratio less than 70 percent will be processed and, when ready, obligated on a first-come-first-serve basis, provided funds are available. Projects that score less than 25 points, and projects that score 25 points or more and do not have a loan to development cost ratio less than 70 percent, may be processed up to the point of obligation, but they will not be obligated until after June 13, 2005. Each month after June 13, 2005, the Agency will select proposals with a threshold score of 25 or higher until all funds are expended. Priority for the selection of proposals that meet the threshold score of 25 will be given to the highest scoring proposals. A notice will be placed in the Federal Register when all funds are committed for FY 2005.

Scoring of Priority Criteria for Selection of Projects With Interest Credit Requests: RHS will allocate points to projects with requests for interest credit. Subject to available funding, all projects scoring 55 points or more on the six priority criteria below and demonstrate a need for the interest credit subsidy will receive interest credit awards.

The six priority criteria for projects with requests for interest credit are listed below.

Priority 1—Projects located in eligible rural communities with the lowest populations will receive the highest points.

Population size | Points
0-5,000 people | 15
5,001-10,000 people | 10
10,001-15,000 people | 5
15,001-20,000 people | 0

Priority 2—The most needy communities as determined by the median income from the most recent census data will receive points. The RHS will allocate points to projects located in communities having the lowest median income. Points for median income will be awarded as follows:

Median income (dollars) | Points
Less than $35,000 | 20
$35,000-less than $45,000 | 15
$45,000-less than $55,000 | 10
$55,000-less than $65,000 | 5
$65,000 or more | 0

Priority 3—Projects that demonstrate partnering and leveraging in order to develop the maximum number of units and promote partnerships with state and local communities will also receive points. Points will be awarded as follows:

Loan to total development cost ratio (percentage %) | Points
90-100 | 0
Less than 90-70 | 15
Less than 70-50 | 20
Less than 50 | 30

Priority 4—The development of projects on Tribal Lands, or in an Empowerment Zone or Enterprise Community will receive points. The RHS will attribute 20 points to projects that are developed in any of the locations described in this priority. The development of projects in a Colonia or in a place identified in the State's Consolidated Plan or State Needs Assessment as a high need community for multi-family housing will receive points. The RHS will attribute 20 points to projects that are developed in any of the locations described in this priority.

Priority 5—RHS will award points for basis points above the long term monthly AFR used to calculate the interest rate. Lenders should use the Long Term Monthly AFR in effect at the closing of the lender's loan. The score for basis points is as follows:

Basis points | Points
More than 250 basis points | −20
200 to 250 basis points, inclusive | 10
100 to 199 basis points, inclusive | 15
0 to 99 basis points, inclusive | 20

Priority 6—The RHS will award points to projects with the highest ratio of 3-5 bedroom units to total units as follows:

Ratio of 3-5 bedroom units to total units | Points
More than 50% | 6
21%-50% | 5
Less than 21%-more than 0% | 1

Notifications: Responses will be reviewed for completeness and eligibility. The RHS will notify those lenders whose responses are selected via letter. The RHS will request lenders without GRRHP lender approval to apply for GRRHP lender approval within 30 days upon receipt of notification of selection. For information regarding GRRHP lender approval, please refer to the section entitled “Submission of Documentation for GRRHP Lender Approval” in this Notice.

Lenders will also be invited to submit a complete application and the required application fee of $2,500 to the Rural Development State Office where the project is located.

Submission of GRRHP Applications: Notification letters will instruct lenders to contact the Rural Development State Office immediately following notification of selection to schedule required agency reviews.

Rural Development State Office staff will work with lenders in the development of an application package. Required documentation for a complete application package is stated in section 3 of chapter 4 of HB-1-3565.

The deadline for the submission of a complete application and application fee is 90 days from the date of notification of response selection. If the application and fee are not submitted within 90 days from the date of notification, the selection is subject to cancellation, thereby allowing another response that is ready to proceed with processing to be selected.

Obligation of Program Funds: The RHS will only obligate funds to projects that meet the requirements for obligation, including undergoing a satisfactory environmental review in accordance with the National Environmental Protection Act (NEPA) and lenders who have submitted the $2,500 application fee and completed Form RD 3565-1 for the selected project.

Conditional Commitment: Once required documents for obligation and the application fee are received and all NEPA requirements have been met, the Rural Development State Office will issue a conditional commitment, which stipulates the conditions that must be fulfilled before the issuance of a guarantee, in accordance with 7 CFR 3565.303.

Issuance of Guarantee: The RHS State Office will issue a guarantee to the lender for a project in accordance with 7 CFR 3565.303. No guarantee can be issued without a complete application, review of appropriate certifications, satisfactory assessment of the appropriate level of environmental review, and the completion of any conditional requirements.

Dated: March 3, 2005.
Russell T. Davis,
Administrator, Rural Housing Service.

[FR Doc. 05-4776 Filed 3-11-05; 8:45 am]

BILLING CODE 3410-XV-C